DEPARTMENT OF VETERANS AFFAIRS

Means Test Thresholds

AGENCY: Department of Veterans Affairs.

ACTION: Notice.

SUMMARY: As required by law, the Department of Veterans Affairs (VA) is hereby giving notice of cost-of-living adjustments (COLA) for means test income limitations. These adjustments are based on the rise in the Consumer Price Index (CPI) during the one-year period ending September 30, 2001.

DATES: These rates are effective January 1, 2002.

FOR FURTHER INFORMATION CONTACT: Roscoe Butler, Chief Policy and Operations, Health Administration Service, (10C3), Veterans Health Administration, VA, 810 Vermont Avenue, NW., Washington, DC 20420, (202) 273-8302. (This is not a toll-free number.)

SUPPLEMENTARY INFORMATION: On January 1 of each year, the Secretary is authorized under Title 38 United States Code, section 1722 to increase the means test income threshold levels by the same percentage the maximum rates of pension benefits were increased under section 5312(a) during the preceding calendar year. The means test income thresholds are used by the Veterans Health Administration (VHA) to determine whether a veteran must agree to pay a copayment for hospital and outpatient medical care services. Based on a 2.6 percent increase in Pension Benefits effective December 1, 2001, and in accordance with 38 CFR 3.29, the following income limitations for the Means Test Thresholds will be effective January 1, 2002.

Table 1—Means Test Thresholds

(1) Veterans with no dependents:

(a) Below Means Test Threshold: $24,304

(a) Above Means Test Threshold: $24,305

(2) Veterans with 1 dependent:

(a) Below Means Test Threshold: $29,168

(a) Above Means Test Threshold: $29,169

(3) Veterans with 2 dependents:

(a) Below Means Test Threshold: $30,798

(a) Above Means Test Threshold: $30,799

(4) Veterans with 3 dependents:

(a) Below Means Test Threshold: $32,428

(a) Above Means Test Threshold: $32,429

(5) Veterans with 4 dependents:

(a) Above Means Test Threshold: $34,058

(a) Below Means Test Threshold: $34,059

(6) Veterans with 5 dependents:

(a) Above Means Test Threshold: $35,688

(a) Below Means Test Threshold: $35,689

(7) Child Income Exclusion is: $7,450

(8) The Medicare deductible is $812

(9) Maximum annual Rate of Pension effective 12/1/2001 are:

(a) The base rate is $9,556

(b) The base rate with one dependent is $12,516

(c) Add $1,630 for each additional dependent above 5

Below the Means Test Threshold is defined as those veterans whose attributable income and net worth is such that they are unable to defray the expenses of care and therefore are not subject to copay charges for hospital and outpatient medical services.

Above the Means Test Threshold is defined as those veterans whose attributable income and net worth is such that they are able to defray the expenses of care and must agree to pay a copayment for hospital care and outpatient medical services.

Dated: January 23, 2002.
Anthony J. Principi,
Secretary of Veterans Affairs.

[FR Doc. 02-2365 Filed 1-30-02; 8:45 am]

BILLING CODE 8320-01-P